DEPARTMENT OF ENERGY

Federal Energy Regulatory Commission

[Docket Nos. RM01-8-000 and ER02-2001-000]

Revised Public Utility Filing Requirements Electric Quarterly Reports; Notice of Electric Quarterly Reports Information

February 18, 2004.

This notice announces:

• The availability of a new version of Electric Quarterly Report (EQR) submission software (2.0) which implements the changes mandated in Order No. 2001-E.

• A two-day EQR Users Group Workshop in Washington, DC, on March 11 and 12, 2004.

• An outreach session for western EQR filers on February 24, 2004, at the California ISO.

• The availability of a function to download the entire EQR database to a remote site.

On April 25, 2002, the Commission issued Order No. 2001,¹ a final rule which requires public utilities to file Electric Quarterly Reports. Order 2001-E, issued December 23, 2003, made certain changes in the filing requirements which are effective beginning with the first quarter 2004 filing, due April 30, 2004. The enhancements have been made to the EQR submission software and users' EQR software will be automatically updated to the new version when they open their software on a computer that is connected to the Internet. A newly revised Users Guide and guidance for the changes resulting from Order No. 2001-E have been posted on the Commission's Web site at http://www.ferc.gov/docs-filing/eqr/eqr-soft.asp.

¹ Revised Public Utility Filing Requirements, Order No. 2001, 67 FR 31043, FERC Stats. & Regs. ¶ 31,127 (April 25, 2002); reh'g denied, Order No. 2001-A, 100 FERC ¶ 61,074, reconsideration and clarification denied, Order No. 2001-B, 100 FERC ¶ 61.342 (2002).

On March 11 and 12, 2004, there will be an EQR Users Group Workshop. All interested parties are invited to attend. The meeting will be held in the Commission Meeting Room at FERC headquarters, 888 First Street, NE., Washington, DC. For those unable to attend in person, access to some of the workshop sessions will be available by teleconference. These sessions are intended to be interactive meetings with considerable discussion of detailed elements of the EQR.

The teleconferenced Users Group Meeting will run from 1 p.m. to 5 p.m. on Thursday, March 11 and from 10 a.m. to 1 p.m. on Friday, March 12. There will be informal working sessions Thursday morning, from 9:30 a.m. until 12 p.m., and Friday afternoon, from 2 p.m. to 4 p.m. Those sessions will not be available via teleconference. Those interested in participating in person or via teleconference are asked to register online by March 1, 2004, at http://www.ferc.gov/whats-new/registration/eqr_0311-form.asp. There is no registration fee.

On February 24, 2004, Barbara Bourque (EQR Program Manager) and Steven Reich will hold an EQR outreach session at the offices of the California Independent System Operator. The meeting will be held at 151 Blue Ravine Road in Folsom, California and will run from 1:30 p.m. to 5:30 p.m. It will include a discussion of the changes mandated by Order No. 2001-E and an extended question and answer session. Those interested in attending the meeting are asked to register online by 11 a.m. Pacific time on Friday, February 20, 2004, at http://www.ferc.gov/whats-new/registration/eqr_0224-form.asp. There is no registration fee. Questions and comments may be submitted in advance by filing them in ER02-2001 as described below, or by submitting them online at http://www.ferc.gov/whats-new/registration/question-form.asp.

Beginning February 18, 2004, interested parties may download a copy of the entire EQR database from the FERC Web site at http://www.ferc.gov/docs-filing/eqr/database-down-new.asp. The database is in Visual FoxPro (VFP) format. The file is over 500 MB compressed, expanding to over 7,500 MB when decompressed. This file will be updated each Saturday, and only one user at a time will be allowed to download it because of its size. For that reason and because of the computer sophistication required to use a VFP database, only parties with IT departments capable of supporting the database should attempt to download it.

Interested parties wishing to file comments may do so under the above-captioned Docket Numbers. Those filings will be available for review at the Commission or may be viewed on the Commission's Web site at http://www.ferc.gov, using the “eLibrary” link. Enter the docket number excluding the last three digits in the docket number field to access the document. For assistance, contact FERC Online Support at FERCOnlineSupport@ferc.gov or via phone at (866) 208-3676 (toll-free). For TTY, contact (202) 502-8659.

For additional information, please contact Barbara Bourque of FERC's Office of Market Oversight & Investigations at (202) 502-8338 or by e-mail, Barbara.bourque@ferc.gov.

Magalie R. Salas,
Secretary.

[FR Doc. E4-365 Filed 2-23-04; 8:45 am]

BILLING CODE 6717-01-P